DEPARTMENT OF VETERANS AFFAIRS

Advisory Committee on Cemeteries and Memorials; Notice of Meeting

The Department of Veterans Affairs (VA) gives notice under Public Law 92-463 (Federal Advisory Committee Act) that a meeting of the Advisory Committee on Cemeteries and Memorials will be held November 5-6, 2003, at the Department of Veterans Affairs Central Office, 810 Vermont Ave, NW., Washington, DC. The meeting will be held in Room 930, beginning at 8 a.m. and concluding at 4:30 p.m. on both days. The meeting is open to the public.

The purpose of the Committee is to advise the Secretary of Veterans Affairs on the administration of national cemeteries and soldiers' lots and plots and on the selection of new national cemetery sites, the erection of appropriate memorials, and the adequacy of Federal burial benefits. The Committee will make recommendations to the Secretary regarding these activities.

On November 5, the Committee will receive updates on the National Cemetery Administration's National Shrine Commitment, organizational assessment, and other issues related to the administration and maintenance of national cemeteries. The Committee will travel to Alexandria National Cemetery for talks related to the National Shrine Commitment.

On November 6, the Committee will receive an update on the construction of new national cemeteries and meeting veterans' burial needs. The meeting will conclude with any unfinished business and recommendations for future programs, meeting sites, and agenda topics.

No time will be allocated for receiving oral presentations from the public. Any member of the public wishing to attend the meeting is requested to contact Ms. Cynthia Riddle, Designated Federal Officer, at (202) 273-5223. The Committee will accept written comments; however, the writers must identify themselves and state the organizations, associations, or person(s) they represent. Comments can be transmitted electronically to the Committee at Cynthia.riddle@mail.va.gov or mailed to National Cemetery Administration (40), 810 Vermont Avenue, NW., Washington, DC 20420.

Dated: October 2, 2003.
By Direction of the Secretary.
E. Philip Riggin,
Committee Management Officer.

[FR Doc. 03-25596 Filed 10-8-03; 8:45 am]

BILLING CODE 8320-01-M